DEPARTMENT OF THE INTERIOR

Bureau of Land Management

[UT 100-01-1610-DO-083]

Intent To Prepare a Resource Management Plan for Public Lands and Resources in Garfield, Piute, Sanpete, Sevier, and Wayne Counties, UT

AGENCY: Richfield Field Office, Bureau of Land Management, Richfield, Utah.

ACTION: Notice of intent to prepare a Resource Management Plan (RMP) for public lands and resources managed by the Richfield Field Office. This action will require preparation of an Environmental Impact Statement (EIS). These lands are located in Garfield, Piute, Sanpete, Sevier and Wayne counties, Utah.

SUMMARY: This document provides notice that the Bureau of Land Management (BLM) intends to prepare an RMP and associated EIS for the Richfield Field Office. This planning activity encompasses approximately 2.2 million acres of public land in the above named counties and the leaseable mineral estate on portions of the Dixie and Fishlake National Forests. The plan will fulfill the needs and obligations set forth by the National Environmental Policy Act (NEPA), the Federal Land Policy and Management Act (FLPMA), and BLM management policies. The BLM will work closely with interested parties to identify potential management decisions that are best suited to the needs of the public. This collaborative process will take into account local, regional, and national needs and concerns. This notice initiates the public scoping process to identify planning issues and to review preliminary planning criteria.

DATES: The scoping comment period will commence with the publication of this notice. Formal scoping will end 60 days after publication of this notice. Comments on issues and planning criteria will be most useful if received on or before the end of the scoping period at the address listed below.

Public Participation: Public meetings will be held throughout the plan scoping and preparation period. In order to ensure local community participation and input, public meetings will be held, at a minimum, in the towns of Junction, Loa, Manti, and Richfield, Utah. Early participation by all interested parties is encouraged and will help determine the future management of the Richfield Field Office public lands. At least 15 days public notice will be given for activities where the public is invited to attend. The minutes and list of attendees for each meeting will be available to the public and open for 30 days to any participant who wishes to clarify the views they expressed. Written comments will be accepted throughout the planning process at the address shown below. Meetings and comment deadlines will be announced through the local news media, newsletters and the BLM Web site (www.ut.blm.gov). In addition to the ongoing public participation process, formal opportunities for public participation will be provided through comment on the alternatives and upon publication of the draft RMP/EIS.

ADDRESSES: Written comments should be sent to RMP Comments, Bureau of Land Management, Richfield Field Office, 150 East 900 North, Richfield, Utah 84701; Fax 435-896-1550. Documents pertinent to this proposal may be examined at the BLM's Richfield Field Office. Comments, including names and street addresses of respondents, will be available for public review at the Richfield Field Office during regular business hours, 8 a.m. to 4:30 p.m., Monday through Friday, except holidays, and may be published as part of the EIS. Individual respondents may request confidentiality. If you wish to withhold your name or address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Frank Erickson, Assistant Field Manager for Planning, BLM Richfield Field Office, 150 East 900 North, Richfield, UT 84701, phone: 435-896-1532, e-mail: frank_erickson@ut.blm.gov.

SUPPLEMENTARY INFORMATION: Preliminary issues and management concerns have been identified by BLM personnel, other agencies, and in meetings with individuals and user groups. They represent the BLM's knowledge to date of the existing issues and concerns with current management. The major issue themes that will be addressed in the plan effort are management and protection of public land resources; access to and transportation on the public lands; off-highway vehicle management; wilderness study area recommendations; and balancing multiple uses. Other specific issues may include; cultural resource management, fire management, forestry and woodland harvest management, lands and realty management, rangeland health and management, wild horse and burro management, potential establishment of wilderness study areas, areas of critical environmental concern, wild and scenic rivers, and special status species management.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of resource issues and concerns identified. Specialists with expertise in the following disciplines will be involved in the planning process: Rangeland management, minerals and geology, outdoor recreation, archaeology, paleontology, wildlife and fisheries, lands and realty, hydrology, soils, sociology, and economics. Additional expertise will be included as appropriate.

Background Information

Public lands managed by the Richfield Field Office are situated in south-central Utah in the canyons, plateaus and deserts of the Great Basin and Colorado Plateau physiographic provinces. The field office borders the Colorado River, Glen Canyon National Recreation Area, Capitol Reef National Park, and portions of the Dixie, Fishlake, Manti-LaSal, and Uinta National Forests. Major waterways include the Sevier, San Pitch, Fremont, Muddy, and Dirty Devil rivers and the Piute, Otter Creek, and Sevier Bridge (Yuba) reservoirs. Elevations in the area range from 3,800 feet in the Cane Spring Desert to over 11,500 feet atop Mt. Ellen in the Henry Mountains.

The Richfield Field Office is presently managed under five existing land use plans:

• Mountain Valley Management Framework Plan (MFP), approved in 1982

• Henry Mountain MFP, approved in 1982

• Parker Mountain MFP, approved in 1982

• Cedar-Beaver-Garfield-Antimony (CBGA) RMP, approved in 1984

• San Rafael RMP, Approved in 1991

The existing plans are out-of-date with respect to current resource conditions, public values, laws, regulations and policies.

As part of the land use planning process, the FLPMA mandates that the BLM give priority to the designation and protection of Areas of Critical Environmental Concern (ACEC) in developing and revising land use plans. As part of the Richfield Field Office RMP planning effort, the BLM will determine what areas, if any, should be designated as ACECs. As such, BLM is requesting nominations for areas that the public may see as being appropriately managed as ACECs.

Additional public nominations are also being sought for those rivers which may be eligible for inclusion into the National Wild and Scenic River System. In order to be considered, the body of water must be free flowing and contain at least one outstandingly remarkable value. The river can be any size and must be existing or flowing in a natural condition without major modification. All nominations should be accompanied by detailed maps, descriptions of the river segment, and river related values. Rivers will also be tentatively classified as wild, scenic or recreational. An interdisciplinary team in coordination with planning partners will make preliminary determinations as to eligibility and classification of river segments. These preliminary determinations will be made available for public review prior to issuance of the Draft RMP/Draft EIS.

Preliminary Planning Criteria have been identified to help guide the planning effort. The Richfield Field Office Resource Management Plan and the process used for developing it will: (1) Recognize valid existing rights; (2) comply with laws, regulations, executive orders and BLM supplemental program guidance; (3) include management direction for public lands, including split estate lands managed by BLM; (4) determine the desired future condition of public lands using, where possible, a collaborative and multi-jurisdictional approach; (5) ensure, within applicable laws and policies, that management prescriptions and planning actions complement those of neighboring Federal, tribal, state, county and municipal planning jurisdictions; (6) focus management prescriptions on the harmonious and coordinated management of the various resources without permanent impairment of the productivity of the land and the quality of the environment, giving consideration to the relative values of the resources and not necessarily the combination of uses that provide the greatest economic return or greatest unit output; (7) address the social and economic impacts of the alternatives; (8) utilize current scientific information, research, new technologies and the results of inventory, monitoring and coordination to determine appropriate local and regional management strategies to enhance or restore impaired ecosystems; (9) apply comprehensive Land Health Standards to all activities and uses; (10) develop and portray baseline Reasonable Foreseeable Management/Development (RFD) scenarios based on historical, existing, and projected development levels for appropriate programs; (11) coordinate with Indian Tribes to identify sites, areas and objects important to their culture and religious heritage; (12) evaluate paleontological and cultural resources for use allocations, if appropriate, including provisions for interpretation, preservation, conservation and enhancement; (13) comply with the Endangered Species Act and follow interagency agreements with the USFWS regarding consultation; (14) develop vegetation management objectives for all areas; (15) develop management actions that are responsive to the issues, concerns and opportunities identified for resolution in this plan; and (16) develop direction for managing off-highway vehicles consistent with BLM's national OHV strategy.

This notice announces the beginning of the formal public involvement period. The Richfield Field Office is seeking public involvement at the earliest possible stages of this planning endeavor to enhance collaboration. If you have information, or concerns you would like to share, including ideas or opportunities that could enhance data collection, resource inventories, formulation of issues or alternatives, or development of planning criteria, please submit them to the above address.

Alternatives will be developed and analyzed to resolve those issues identified during the scoping process and a Draft RMP/Draft EIS will be published and made available for public review.

Dated: September 6, 2001.
Robert A. Bennett,
Acting State Director.

[FR Doc. 01-27424 Filed 10-31-01; 8:45 am]

BILLING CODE 4310-32-P